DEPARTMENT OF DEFENSE

Department of the Army

[Docket ID: USA-2019-HQ-0031]

Submission for OMB Review; Comment Request

AGENCY: U.S Army Corps of Engineers, Department of Defense (DoD).

ACTION: 30-Day information collection notice.

SUMMARY: The Department of Defense has submitted to OMB for clearance the following proposal for collection of information under the provisions of the Paperwork Reduction Act.

DATES: Consideration will be given to all comments received by December 14, 2020.

ADDRESSES: Written comments and recommendations for the proposed information collection should be sent within 30 days of publication of this notice to www.reginfo.gov/public/do/PRAMain. Find this particular information collection by selecting “Currently under 30-Day Review—Open for Public Comments” or by using the search function.

FOR FURTHER INFORMATION CONTACT: Angela James, 571-372-7574, or whs.mc-alex.esd.mbx.dd-dod-information-collections@mail.mil.

SUPPLEMENTARY INFORMATION:

Title; Associated Form; and OMB Number: Corps Water Infrastructure Financing Program (CWIFP) Preliminary Application; OMB Control Number 0710-XXXX.

Type of Request: New.

Number of Respondents: 15.

Responses per Respondent: 1.

Annual Responses: 15.

Average Burden per Response: 50 hours.

Annual Burden Hours: 750.

Needs and Uses: The Water Infrastructure Finance and Innovation Act of 2014 (WIFIA, see also at 33 U.S.C. 3901-3914) authorizes entities such as corporations, partnerships, joint ventures, trusts, state infrastructure financing authorities, and federal, tribal, state or local government entities are eligible to receive federal credit assistance. The Preliminary Application collection requirement is necessary to (1) validate the eligibility of the prospective borrower and the proposed project, (2) perform a preliminary creditworthiness assessment, (3) perform a preliminary engineering and environmental feasibility assessment, and (4) evaluate the project against the selection criteria. Based on evaluation of the Preliminary Application, USACE will invite prospective borrowers to submit an application for projects likely to proceed to closing. Only five applicants are expected to move forward with the application process, and thus the Application is not subject to the provisions of the Paperwork Reduction Act and not included in this information collection proposal.

Affected Public: State, Local, or Tribal Governments; Private Sector; Federal Government.

Frequency: On occasion.

Respondent's Obligation: Voluntary.

OMB Desk Officer: Mr. Vlad Dorjets.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela James.

Requests for copies of the information collection proposal should be sent to Ms. James at whs.mc-alex.esd.mbx.dd-dod-information-collections@mail.mil.

Dated: October 27, 2020.
Aaron T. Siegel,
Alternate OSD Federal Register Liaison Officer, Department of Defense.

[FR Doc. 2020-25069 Filed 11-12-20; 8:45 am]

BILLING CODE 5001-06-P